DEPARTMENT OF TRANSPORTATION

Federal Highway Administration

[Docket No. FHWA-2007-0009]

Agency Information Collection Activities: Notice of Request for Renewal of a Previously Approved Information Collection

AGENCY: Federal Highway Administration (FHWA), DOT.

ACTION: Notice and request for comments.

SUMMARY: The FHWA invites public comments about our intention to request the Office of Management and Budget's (OMB) approval for renewal of a previously approved information collection that is summarized below under SUPPLEMENTARY INFORMATION. We are required to publish this notice in the Federal Register by the Paperwork Reduction Act of 1995.

DATES: Please submit comments by December 28, 2007.

ADDRESSES: You may submit comments identified by Docket ID Number FHWA-2007-0009 by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Ann Shemaka, 202-366-1575, Federal Highway Administration, 1200 New Jersey Avenue, SE., Office of Bridge Technology, HIBT-30, Washington, DC 20590, between 7:30 a.m. to 4:30 p.m., Monday through Friday, except Federal holidays.

SUPPLEMENTARY INFORMATION: Title: Highway Bridge and National Bridge Inspection Programs previously titled National Bridge Inspection Standards.

OMB Control #: 2125-0501.

Background: The Highway Bridge and National Bridge Inspection Programs require bridge inspection and reporting at regular intervals for all highway bridges greater than 20 feet in length located on public roads. Title 23, U.S.C., Section 144 defines the Highway Bridge Program. Title 23, U.S.C., Section 151 defines the National Bridge Inspection Program. They are further defined in regulation, 23 CFR 650 C, National Bridge Inspection Standards, and 23 CFR 650 D, Highway Bridge Program. Inspections of fracture critical bridges and underwater inspections are also required at prescribed intervals. The bridge inspection information that is provided to the FHWA on an annual basis is summarized on the Structure Inventory and Appraisal (SI&A) Sheet. The inspection information is used for multiple purposes, including: (1) The determination of the condition of the Nation's bridges; (2) as a basis for setting initial priorities for the replacement or rehabilitation of bridges under the Highway Bridge Program (HBP); and (3) for apportioning HBP funds to the States for bridge replacement or rehabilitation. In order to apportion funds for the HBP, the law requires that a cost to replace or rehabilitate each bridge needs to be determined. In order to determine that cost, the FHWA collects data on new and replaced bridges from the States annually. In addition, the information is used for strategic national defense needs and for preparing an annual report to Congress on the status of the Nation's highway bridges.

Respondents: 52 State highway agencies including the District of Columbia and Puerto Rico, and Federal agencies.

Estimated Average Burden per Response: The estimated average burden for each inspection is 8 hours. The estimated average burden for each cost collection report is 90 hours.

Estimated Total Annual Burden Hours: The annual burden associated with the inspection is 2,289,600 hours. The annual burden associated with the cost report is 4,680 hours for a combined annual burden of 2,294,280 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: October 23, 2007.
James R. Kabel,
Chief, Management Programs and Analysis Division.

[FR Doc. E7-21249 Filed 10-26-07; 8:45 am]

BILLING CODE 4910-22-P